DEPARTMENT OF COMMERCE

National Oceanic and Atmospheric Administration

[RTID 0648-XC841]

Marine Mammals; File No. 27193

AGENCY: National Marine Fisheries Service (NMFS), National Oceanic and Atmospheric Administration (NOAA), Commerce.

ACTION: Notice; receipt of application.

SUMMARY: Notice is hereby given that MeatEater, Inc., 1203 N. Rouse St., Suite 3E, Bozeman, MT 59715 (Responsible Party: Jason Roehrig), has applied in due form for a permit to conduct commercial and educational photography on marine mammals.

DATES: Written, telefaxed, or email comments must be received on or before April 21, 2023.

ADDRESSES: These documents are available upon written request via email to NMFS.Pr1Comments@noaa.gov.

Written comments on this application should be submitted via email to NMFS.Pr1Comments@noaa.gov. Please include File No. 27193 in the subject line of the email comment.

Those individuals requesting a public hearing should submit a written request via email to NMFS.Pr1Comments@noaa.gov. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film marine mammals while documenting activities of Alaska Natives (with their permission) near Craig, Alaska. The goal is to film a harbor seal (Phoca vitulina) hunt and the annual herring spawning for a short film and episode of MeatEater's “Cal in the Field,” which will be available on their website and the MeatEater YouTube Channel. Up to 1000 harbor seals, 50 Steller sea lions of the eastern Distinct Population Segment (Eumetopias jubatus), and 50 killer whales (Orcinus orca) may be filmed from land, boats, unmanned aircraft systems, snorkelers, and pole cameras. The filmmakers will film the seal hunt and the processing of the carcass, but will not interfere or participate in the activities. During the herring spawning, native Alaskans collect the fish eggs while many marine mammals also visit the area to feed on the eggs. Filming would occur over approximately 10 days from March through July. The permit would expire in July 2025.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 17, 2023.
Julia M. Harrison,
Chief, Permits and Conservation Division, Office of Protected Resources, National Marine Fisheries Service.

[FR Doc. 2023-05866 Filed 3-21-23; 8:45 am]

BILLING CODE 3510-22-P